DEPARTMENT OF ENERGY

Federal Energy Regulatory Commission

[Docket No. RP04-118-000]

Transcontinental Gas Pipe Line Corporation; Notice of Proposed Changes in FERC Gas Tariff

December 30, 2003.

Take notice that on December 22, 2003, Transcontinental Gas Pipe Line Corporation (Transco) tendered for filing as part of its FERC Gas Tariff, Third Revised Volume No. 1, certain revised tariff sheets to which tariff sheets are enumerated in Appendix B attached to the filing. The proposed effective date of the tariff sheets is January 22, 2004.

Transco states that it seeks Commission approval of an agreement included in the filing entitled “Early Termination of Gas Purchase Agreement and Transportation Capacities Release Agreement” (Termination and Assignment Agreement). Transco explains that, pursuant to the Termination and Assignment Agreement, Transco has agreed to buy out of its purchase obligation under a Gas Purchase Agreement (GPA) with Dakota Gasification Company (Dakota) and to permanently release certain related transportation obligations to Dakota and Tenaska Marketing Ventures.

Transco's states that its application seeks (1) Commission approval of the Termination and Assignment Agreement; and (2) authorization for Transco to recover (i) the cost of buying out of Transco's purchase obligation under the GPA; and (ii) the cost incurred by Transco in connection with certain firm transportation agreements used to transport gas purchased under the GPA to Transco's system (collectively, Dakota Buyout Costs). Further, Transco seeks Commission approval of the revised tariff sheets which set forth a mechanism pursuant to which Transco proposes to recover the Dakota Buyout Costs.

Transco states that it is serving copies of the filing has been served to its affected customers, interested State Commissions and other interested parties.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-9 Filed 1-8-04; 8:45 am]

BILLING CODE 6717-01-P